DEPARTMENT OF THE INTERIOR

Bureau of Ocean Energy Management

[OMB Number 1010-0006; MMAA104000]

Information Collection: Leasing of Sulphur or Oil and Gas in the Outer Continental Shelf and Pipeline Rights of Way; Submitted for OMB Review; Comment Request

ACTION: 30-day notice.

SUMMARY: To comply with the Paperwork Reduction Act of 1995 (PRA), the Bureau of Ocean Energy Management (BOEM) is notifying the public that we have submitted an information collection request (ICR) to the Office of Management and Budget (OMB) for review and approval. The information collection request (ICR) concerns the paperwork requirements in the regulations under 30 CFR Part 556, Leasing of Sulphur or Oil and Gas in the OCS; 30 CFR Part 550, Subpart J, Pipelines and Pipeline Rights-of-Way; and 30 CFR Part 560, OCS Oil and Gas Leasing. This notice provides the public a second opportunity to comment on the paperwork burden of this collection.

DATES: Submit written comments by March 5, 2014.

ADDRESSES: Submit comments on this ICR to the Desk Officer for the Department of the Interior at OMB-OIRA at (202) 395-5806 (fax) or OIRA_submission@omb.eop.gov (email). Please provide a copy of your comments to the BOEM Information Collection Clearance Officer, Arlene Bajusz, Bureau of Ocean Energy Management, 381 Elden Street, HM-3127, Herndon, Virginia 20170 (mail) or arlene.bajusz@boem.gov (email). Please reference ICR 1010-0006 in your comment and include your name and return address.

FOR FURTHER INFORMATION CONTACT: Arlene Bajusz, Office of Policy, Regulations, and Analysis at arlene.bajusz@boem.gov (email) or (703) 787-1025 (phone). You may review the ICR online at http://www.reginfo.gov. Follow the instructions to review Department of the Interior collections under review by OMB.

SUPPLEMENTARY INFORMATION: Title: 30 CFR Part 556, Leasing of Sulphur or Oil and Gas in the OCS; 30 CFR Part 550, Subpart J, Pipelines and Pipeline Rights-of-Way; and 30 CFR Part 560 OCS Oil and Gas Leasing.

Forms: BOEM-0150, 0151, 0152, 2028, 2028A, 2030.

Abstract: The Outer Continental Shelf (OCS) Lands Act, as amended (43 U.S.C. 1331 et seq., and 43 U.S.C. 1801 et seq.), authorizes the Secretary of the Interior to prescribe rules and regulations to administer leasing of the OCS. Such rules and regulations will apply to all operations conducted under a lease. Operations on the OCS must preserve, protect, and develop oil and natural gas resources in a manner that is consistent with the need to make such resources available to meet the Nation's energy needs as rapidly as possible; balance orderly energy resource development with protection of human, marine, and coastal environments; ensure the public a fair and equitable return on the resources of the OCS; and preserve and maintain free enterprise competition. Also, the Energy Policy and Conservation Act of 1975 (EPCA) prohibits certain lease bidding arrangements (42 U.S.C. 6213(c)).

The Independent Offices Appropriations Act (31 U.S.C. 9701), the Omnibus Appropriations Bill (Pub. L. 104-133, 110 Stat. 1321, April 26, 1996), and Office of Management and Budget (OMB) Circular A-25 authorize Federal agencies to recover the full cost of services that provide special benefits. Under the Department of the Interior's (DOI) implementing policy, the Bureau of Ocean Energy Management (BOEM) is required to charge the full cost for services that provide special benefits or privileges to an identifiable non-Federal recipient above and beyond those that accrue to the public at large. Instruments of transfer of a lease or interest are subject to cost recovery, and BOEM regulations specify the filing fee for these transfer applications.

This notice concerns the reporting and recordkeeping requirements of BOEM regulations at 30 CFR 556, Leasing of Sulphur or Oil and Gas in the OCS; 30 CFR 550, Subpart J, Pipelines and Pipeline Rights-of-Way; 30 CFR 560, OCS Oil and Gas Leasing; as well as the related Notices to Lessees and Operators (NTLs) that clarify and provide additional guidance on some aspects of these regulations. This ICR also concerns the use of the following forms to process bonds, transfer interest in leases, and file relinquishments:

• BOEM-0150, Assignment of Record Title Interest in Federal OCS Oil and Gas Lease,

• BOEM-0151, Assignment of Operating Rights Interest in Federal OCS Oil and Gas Lease,

• BOEM-0152, Relinquishment of Federal OCS Oil and Gas Lease,

• BOEM-2028, OCS Mineral Lessee's and Operator's Bond,

• BOEM-2028A, OCS Mineral Lessee's and Operator's Supplemental Bond,

• BOEM-2030, OCS Pipeline Right-of-Way Grant Bond.

BOEM uses the information collected to determine if applicants are qualified to hold leases in the OCS, assign a qualification number to avoid respondent submission of information already on file, develop the semiannual List of Restricted Joint Bidders, ensure the qualification of transferees and track operators on leaseholds, document that a leasehold or geographical subdivision has been surrendered by the record title holder, and ensure that adequate funds are secured to complete existing and future bond obligations.

We will protect information from respondents considered proprietary according to section 26 of the OCS Lands Act, the Freedom of Information Act (5 U.S.C. 552) and its implementing regulations (43 CFR part 2 and 30 CFR 556.10(d)). No items of a sensitive nature are collected. Responses are mandatory or are required to obtain a benefit.

Frequency: On occasion or annual.

Description of Respondents: Respondents comprise Federal oil, gas, or sulphur lessees and/or operators.

Estimated Reporting and Recordkeeping Hour Burden: We expect the annual reporting burden estimate for this collection to be 17,882 hours. The following table details the individual components and respective hour burden estimates of this ICR.

Citation 30 CFR part 556 and NTLs | Reporting requirement * | Non-Hour Cost Burdens **: Hour burden | Non-Hour Cost Burdens **: Average number of annual responses | Non-Hour Cost Burdens **: Annual burden hours
All Subparts
Subparts A, C, E, H, L, M | None | Not applicable. |  | 0
Subparts G, H, I, J: 37; 53; 68; 70; 71; 72; 73 | Request approval for various operations or submit plans or applications | Burden included with other approved collections in 30 CFR Part 550 (Subpart A 1010-0114, Subpart B 1010-0151) and in BSEE 30 CFR 250 (Subpart A 1014-0022, Subpart D 1014-0018). |  | 0
Subparts B through F
Subpart B: All sections | Submit general suggestions and relevant information in response to request for comments on proposed 5-year leasing program, including information from States/local governments. | Not considered IC as defined in 5 CFR 1320.3(h)(4). |  | 0
| Submit suggestions and specific information in response to request for comments on proposed 5-year leasing program, including information from States/local governments.*** | 4 | 69 | 276
Subpart D: All sections | Submit general response to Call for Information and Nominations on areas for leasing of minerals in specified areas in accordance with an approved leasing program, including information from States/local governments | Not considered IC as defined in 5 CFR 1320.3(h)(4). |  | 0
| Submit specific response to Call for Information and Nominations on areas for leasing of minerals in specified areas in accordance with an approved leasing program, including information from States/local governments.*** | 4 | 80 (20 responses/sale × 2 sales/call × 2 calls/year) | 320
Subpart F: 31 | States or local governments submit comments/recommendations on size, timing or location of proposed lease sale | 4 | 25 responses | 100
Subtotal | 174 responses | 696 hours
Subpart G
Subpart G: 35; 46(d), (e) | Establish a Company File for pre-qualification; submit updated information, submit qualifications for lessee/bidder, request exception | 2 | 107 responses | 214
41; 43; 46(g) | Submit qualification of bidders for joint bids and statement or report of production, along with supporting information/appeal | 2 | 100 responses | 200
44; 46; 47 | Submit bids and required information, including GDIS & maps in manner specified. Make available to BOEM | 5 | 2,000 bids | 10,000
47(c) | File agreement to accept joint lease on tie bids | 31/2 | 2 agreements | 7
47(e)(1), (e)(3) | Request for reconsideration of bid rejection | Not considered IC as defined in 5 CFR 1320.3(h)(9) |  | 0
47(f), (i); 50 | Execute lease (includes submission of evidence of authorized agent and request for dating of leases; lease stipulations) | 1 | 852 leases | 852
Subtotal | 3,061 responses | 11,273 hours
Subpart I
Subpart I: 52(f)(2), (g)(2) | Submit authority for Regional Director to sell Treasury or alternate type of securities | 2 | 12 submissions | 24
53(a), 53(b); 54 | OCS Mineral Lessee's and Operator's Bond (Form BOEM-2028) | ⅓ | 135 responses | 45 (rounded)
53(c), (d), (f); 54(e) | Demonstrate financial worth/ability to carry out present and future financial obligations, request approval of another form of security, or request reduction in amount of supplemental bond required | 3½ | 166 submissions | 581
54 | OCS Mineral Lessee's and Operator's Supplemental Plugging & Abandonment Bond (Form BOEM-2028A) | 1/4 | 141 responses | 35
55 | Notify BOEM of any lapse in previous bond/action filed alleging lessee, surety, or guarantor is insolvent or bankrupt | 1 | 4 notices | 4
56 | Provide plan/instructions to fund lease-specific abandonment account and related information; request approval to withdraw funds | 12 | 2 submission | 24
57 | Provide third-party guarantee, indemnity agreement, financial information, related notices, reports, and annual update; notify BOEM if guarantor becomes unqualified | 19 | 46 submissions | 874
57(d)(3); 58 | Notice of and request approval to terminate period of liability, cancel bond, or other security | 1/2 | 378 requests | 189
59(c)(2) | Provide information to demonstrate lease will be brought into compliance | 16 | 5 responses | 80
Subtotal | 889 responses | 1,856 hours
Subpart J
Subpart J: 62; 63; 64; 65; 67 | File application and required information for assignment or transfer for approval/comment on filing fee (Forms BOEM-0150 and BOEM-0151) | 2 forms @ 30 min ea = 1 hr | 1,414 applications/forms | 1,414
|  | 1,414 Title/Rights (Transfer) Assignments @ $198 = $279,972
63; 64(a)(8) | Submit non-required documents, for record purposes, which respondents want BOEM to file with the lease document. [Accepted on behalf of lessees as a service, BOEM does not require nor need the filings.] | 0 | 11,518 documents | 0
|  | 11,518 @ $29 = $334,022
64(a)(7) | File required instruments creating or transferring working interests, etc., for record purposes | 1 | 2,369 filings | 2,369
Subtotal | 15,301 responses | 3,783 hours
| $613,994 non-hour cost burdens
Subpart K
Subpart K: 76; 92(a) | File written request for relinquishment (Form BOEM-152) | 1 | 247 relinquishments | 247
77(c) | Comment on lease cancellation (BOEM expects 1 in 10 years) | 1 | 1 comment | 1
Subtotal | 248 responses | 248 hours
Subpart N
Subpart N: 92(a) | Request a bonus or royalty credit; submit supporting documentation | 1 | 1 request | 1
95 | Request approval to transfer bonus or credit to another party; submit supporting information. | 1 | 1 request | 1
Subtotal | 2 responses | 2 hours.

30 CFR 550 Subpart J | Reporting requirement * | Hour burden | Average number of annual responses | Annual burden hours
550.1011(a) | Provide surety bond (Form BOEM-2030) and required information. | GOM 1/4 | 52 forms | 13
|  | Pacific 3½ | 3 forms | 11
TOTAL | 55 responses | 24 hours.

Citation 30 CFR Part 560 | Reporting requirement * | Hour burden | Average number of annual responses | Annual burden hours
124(a) | Request BOEM to reconsider field assignment of a lease | Exempt under 5 CFR 1320.4(a)(2), (c) |  | 0
TOTAL REPORTING | 19,730 Responses |  | 17,882 Hours
| $613,994 Non-Hour Cost Burdens
* In the future, BOEM may require electronic filing of certain submissions.
** Fees are subject to modifications annually per inflation.
*** Existing requirement, previously overlooked.

Estimated Reporting and Recordkeeping Non-Hour Cost Burden: $613,994.

Public Disclosure Statement: The PRA (44 U.S.C. 3501, et seq.) provides that an agency may not conduct or sponsor a collection of information unless it displays a currently valid OMB control number. Until OMB approves a collection of information, you are not obligated to respond.

Comments: Section 3506(c)(2)(A) of the PRA (44 U.S.C. 3501, et seq.,) requires each agency “. . . to provide notice . . . and otherwise consult with members of the public and affected agencies concerning each proposed collection of information . . .” Agencies must specifically solicit comments to: (a) Evaluate whether the collection is necessary or useful; (b) evaluate the accuracy of the burden of the proposed collection of information; (c) enhance the quality, usefulness, and clarity of the information to be collected; and (d) minimize the burden on the respondents, including the use of technology.

To comply with the public consultation process, on November 4, 2013, BOEM published a Federal Register notice (78 FR 66066) announcing that we would submit this ICR to OMB for approval. This notice provided the required 60-day comment period. We received one comment, but it was not relevant to the information collection.

Public Availability of Comments: Before including your address, phone number, email address, or other personal identifying information in your comment, you should be aware that your entire comment—including your personal identifying information—may be made publicly available at any time. While you can ask us in your comment to withhold your personal identifying information from public review, we cannot guarantee that we will be able to do so.

Dated: January 24, 2014.
Deanna Meyer-Pietruszka,
Chief, Office of Policy, Regulations, and Analysis.

[FR Doc. 2014-02195 Filed 1-31-14; 8:45 am]

BILLING CODE 4310-MR-P